DEPARTMENT OF THE INTERIOR

Bureau of Land Management

[ES-960-1910-BJ-4599] ES-51104, Group 9, West Virginia

Notice of Filing of Plat of Survey; West Virginia

The plat of the dependent resurvey of a portion of the boundary of tract nos. 113-33, 120-09, 120-14, 121-01, 121-05, 121-09, 121-17, and 122-05 of the New River Gorge National River, Raleigh County, West Virginia, will be officially filed in Eastern States, Springfield, Virginia at 7:30 a.m., on August 24, 2001.

The survey was made at the request of the National Park Service.

All inquiries or protests concerning the technical aspects of the survey must be sent to the Chief Cadastral Surveyor, Eastern States, Bureau of Land Management, 7450 Boston Boulevard, Springfield, Virginia 22153, prior to 7:30 a.m., August 24, 2001.

Copies of the plat will be made available upon request and prepayment of the appropriate fee.

Dated: June 25, 2001.
Stephen D. Douglas,
Chief Cadastral Surveyor.

[FR Doc. 01-20170 Filed 8-10-01; 8:45 am]

BILLING CODE 4310-GJ-P